Title 3—

The President

Executive Order 13298 of May 6, 2003

Termination of Emergency With Respect to the Actions and Policies of Unita and Revocation of Related Executive Orders

By the authority vested in me as President by the Constitution and the laws of the United States of America, including the International Emergency Economic Powers Act (50 U.S.C. 1701 et seq.), the National Emergencies Act (50 U.S.C. 1601 et seq.) (NEA), section 5 of the United Nations Participation Act of 1945, as amended (22 U.S.C. 287c), and section 301 of title 3, United States Code, and in view of United Nations Security Council Resolution 1448 of December 9, 2002,

I, GEORGE W. BUSH, President of the United States of America, find that the situation that gave rise to the declaration of a national emergency in Executive Order 12865 of September 26, 1993, with respect to the actions and policies of the National Union for the Total Independence of Angola (UNITA), and that led to the steps taken in that order and in Executive Order 13069 of December 12, 1997, and Executive Order 13098 of August 18, 1998, has been significantly altered by the recent and continuing steps toward peace taken by the Government of Angola and UNITA. Accordingly, I hereby terminate the national emergency declared in Executive Order 12865, revoke Executive Orders 12865, 13069, and 13098, and order:

Section 1. Pursuant to section 202 of the NEA (50 U.S.C. 1622), termination of the national emergency with respect to the actions and policies of UNITA shall not affect any action taken or proceeding pending, not finally concluded or determined as of the effective date of this order, or any action or proceeding based on any act committed prior to the effective date of this order, or any rights or duties that matured or penalties that were incurred prior to the effective date of this order.

Sec. 2. This order in not intended to, and does not, create any right or benefit, substantive or procedural, enforceable at law or in equity by any party against the United States, or its departments, agencies, entities, officers, employees, or agents.

Sec. 3. (a) This order is effective 12:01 a.m. eastern daylight time on May 7, 2003.

(b) This order shall be transmitted to the Congress and published in the Federal Register.

B

THE WHITE HOUSE,

May 6, 2003.

[FR Doc. 03-11713

Filed 5-7-03; 11:14 am]

Billing code 3195-01-P